DEPARTMENT OF COMMERCE

Bureau of Industry and Security

Regulations and Procedures Technical Advisory Committee; Notice of Open Meeting

The Regulations and Procedures Technical Advisory Committee (RPTAC) will meet March 21, 2023, 9:00 a.m., Eastern Standard Time, via hybrid. The Committee advises the Office of the Assistant Secretary for Export Administration on implementation of the Export Administration Regulations (EAR) and provides for continuing review to update the EAR as needed. The purpose of the meeting is to have Committee members and U.S. Government representatives mutually review updated technical data and policy-driving information that has been gathered.

Agenda

Public Session

1. Opening remarks by the Chairman

2. Opening remarks by the Bureau of Industry and Security

3. Presentations of Papers by the Public

4. Regulations Update

5. Automated Export System Update

6. Working Group Reports

The open session will be accessible via teleconference. To join the conference, submit inquiries to Ms. Yvette Springer at 202-482-2813, no later than March 14, 2023.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, contact Yvette Springer via email.

Yvette Springer,
Committee Liaison Officer.

[FR Doc. 2023-04619 Filed 3-6-23; 8:45 am]

BILLING CODE 3510-JT-P